CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled Senior Corps Performance Measurement Surveys Parts A, B, and C for review and approval in accordance with the Paperwork Reduction Act of 1995, Public Law 104-13, (44 U.S.C. Chapter 35). Copies of this ICR, with applicable supporting documentation, may be obtained by calling the Corporation for National and Community Service, Angela Roberts, at (202) 606-6822 or email to aroberts@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: (202) 395-6974, Attention: Ms. Sharon Mar, OMB Desk Officer for the Corporation for National and Community Service; and

(2) Electronically by email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

The 60-day Notice soliciting comments was published on Thursday, December 8, 2011 on page 76697. A total of 278 comments were received from 87 commenters. Most individuals providing comments submitted more than one comment each. The commenters represented all three Senior Corps programs in the following proportions: 65 Individuals, or 75 percent from RSVP; 2 individuals, or 2 percent from the Foster Grandparent Program; 2 individuals or percent from the Senior Companion Program; 12 individuals, or 15 percent had no program identified; and the remaining 6 individuals, or 6 percent represented a combination of programs. In all cases, the majority of comments were from RSVP, which accounted for a total of 237 comments, or 85 percent of the total comments. Comments were broken out into eleven discrete categories, as follows:

(1) The survey is partially or entirely unnecessary: 33 comments or 11 percent of the total. Of the 33 comments, 30 or 91 percent were from RSVP.

(2) The survey is duplicative of a tool or process already used by respondents: 17 comments or 6 percent of the total. Of the 17 comments, 13 comments or 76 percent were from RSVP.

(3) The survey places a particularly high burden on RSVP program grantees: 23 comments, or 8 percent of the total. Of the 23 comments, 100 percent were from RSVP.

(4) The survey is too long, and contains too many questions: 19 comments, or 6 percent of the total. Of the 19 comments, 17 or 89 percent were from RSVP.

(5) The survey is partially or entirely irrelevant: 20 comments, or 7 percent of the total. Of the 20 comments, 17 or 85 percent were from RSVP.

(6) The survey represents too great a time burden: 40 comments or 14 percent of the total. Of the 40 comments, 72 percent were from RSVP.

(7) The survey should be conducted as a sample, rather than the proposed census: 15 comments or 5 percent of the total. Of the 15 comments, 14 or 93 percent were from RSVP.

(8) The survey is too costly: 47 comments or 16 percent of the total. Of the 47, 41 comments or 87 percent were from RSVP.

(9) The survey contains invasive questions that would be perceived as encroaching on the privacy of the respondents: 29 comments or 10 percent of the total. Of the 29 comments, 24 or 83 percent were from RSVP.

(10) The program model makes it difficult to reach the clients in order to conduct the survey: 32 comments or 12 percent of the comments. Of the 32 comments, 29 or 91 percent were from RSVP. The Senior Companion Program grantees did not raise this as a core issue, and the model supports access to the assigned clients and volunteers.

(11) The condition of clients, such as Alzheimer's Disease or dementia, would make it difficult to survey some number of clients: 3 comments or 1 percent of the total. All three of the comments were from representatives of the Foster Grandparent or Senior Companion programs.

In summary, 85 percent of the comments were submitted by individuals representing the RSVP program. The comments from RSVP reflected concerns in every category, with particularly emphasis on time burden, cost, and direct client contact due to the program model.

CNCS concurs that, due to the scope, magnitude, and decentralized volunteer placement structure of RSVP, the survey is less aligned with RSVP than with the Foster Grandparent and Senior Companion programs.

Based on the comments received, CNCS will exempt RSVP grantees from a mandatory requirement to use the survey as a means to collect client performance data and volunteer benefit data. CNCS will offer RSVP the opportunity to participate solely on a voluntary basis. CNCS believes that this exemption addresses the concerns of the majority of commenters. The survey will be required of Foster Grandparent and Senior Companion program grantees.

CNCS will make the following modifications in response to the comments:

(1) The survey is partially or entirely unnecessary: 33 comments or 11 percent of the total. Of the 33 comments, 30 or 91 percent were from RSVP. Response: CNCS believes the survey will yield significant data in the FGP and SCP programs. RSVP grantees will not be required to participate.

(2) The survey is duplicative of a tool or process already used by respondents: 17 comments or 6 percent of the total. Of the 17 comments, 13 comments or 76 percent were from RSVP. Response: CNCS believes the survey will provide new data to demonstrate national outcome data in the FGP and SCP programs. RSVP grantees will not be required to participate.

(3) The survey places a particularly high burden on RSVP program grantees: 23 comments, or 8 percent of the total. Of the 23 comments, 100 percent were from RSVP. Response: Due to the scope and decentralized placement of RSVP volunteers, CNCS concurs and will exempt RSVP from required participation in the survey.

(4) The survey is too long, and contains too many questions: 19 comments, or 6 percent of the total. Of the 19 comments, 17 or 89 percent were from RSVP. Response: CNCS modified the survey tools by dividing one consolidated tool into three separate instruments. The Independent Living Surveys—comprising one instrument for clients (primarily frail seniors) served by Senior Companions and one instrument for caregivers of clients served by Senior Companions, were restructured to contain a total of ten questions each. The survey is formatted for ease of use, with the client or surrogate circling the correct response to each question. The Benefits to the Volunteer Survey is now a separate instrument in a similar format. Additionally, the Benefits to the Volunteer Survey frequency of use was changed from annual to one-time. The Independent Living Surveys will remain annual.

(5) The survey is partially or entirely irrelevant: 20 comments, or 7 percent of the total. Of the 20 comments, 17 or 85 percent were from RSVP. Response: CNCS believes the data to be collected through the survey is relevant to both the volunteer experience and the outcomes to clients and caregivers receiving respite. RSVP will not be required to participate in the survey.

(6) The survey represents too great a time burden: 40 comments or 14 percent of the total. Of the 40 comments, 72 percent were from RSVP. Response: comments about the length of the survey, CNCS reformat the survey into individual instruments that each focus on one discrete dimension of performance.

(7) The survey should be conducted as a sample, rather than the proposed census: 15 comments or 5 percent of the total. Of the 15 comments, 14 or 93 percent were from RSVP. Response: The method original envisioned is that all clients and caregivers receiving independent living support and/or respite, and all volunteers would participate. While RSVP will not be required to participate in the survey, there may be some opportunity to engage in a separate evaluation-focused activity that would use a sampling model.

(8) The survey is too costly: 47 comments or 16 percent of the total. Of the 47, 41 comments or 87 percent were from RSVP. Response: CNCS determined that RSVP would be exempt from participating in the survey process.

(9) The survey contains invasive questions that would be perceived as encroaching on the privacy of the respondents: 29 comments or 10 percent of the total. Of the 29 comments, 24 or 83 percent were from RSVP. Response: CNCS will eliminate or de-identify the data received so that individual responses cannot be linked back to specific respondents.

(10) The program model makes it difficult to reach the clients in order to conduct the survey: 32 comments or 12 percent of the comments. Of the 32 comments, 29 or 91 percent were from RSVP. The Senior Companion Program grantees did not raise this as a core issue, and the model supports access to the assigned clients and volunteers. Response: CNCS will not require RSVP grantees to participate in the survey.

(11) The condition of clients, such as Alzheimer's Disease or dementia, would make it difficult to survey some number of clients: 3 comments or 1 percent of the total. All three of the comments were from representatives of the Foster Grandparent or Senior Companion programs. Response: CNCS will incorporate alternative protocols or methods, such as observation, to collect survey data.

Description: CNCS is seeking approval of the Senior Corps Performance Measures Surveys that are used by Foster Grandparent and Senior Companion Program grantees (required) and by RSVP grantees (voluntary/optional) to collect performance data related to independent living and benefits to the volunteers who serve.

Type of Review: New.

Agency: Corporation for National and Community Service.

Title: Senior Corps Performance Measures Surveys.

OMB Number: None.

Agency Number: None.

Affected Public: Clients served by Senior Companions, caregivers served by Senior Companions, Foster Grandparent and Senior Companion volunteers.

Total Respondents:

Independent Living Surveys for Clients and Caregivers: 74,000.

Benefits to Volunteer Survey: 46,000.

Frequency: Independent Living Surveys for Clients and Caregivers: Annual.

Benefits to the Volunteer Survey: One-time.

Average Time per Response:

Independent Living Surveys for Clients and Volunteers: 30 minutes per survey.

Benefits to Volunteer Survey: 30 minutes per survey.

Estimated Total Burden Hours: 60,000 hours.

Total Burden Cost (capital/startup): None.

Total Burden Cost (operating/maintenance): None.

Dated: June 12, 2012.
Erwin J. Tan,
Director, Senior Corps.

[FR Doc. 2012-14819 Filed 6-15-12; 8:45 am]

BILLING CODE 6050-$$-P